DEPARTMENT OF TRANSPORTATION

Surface Transportation Board

[STB Docket No. AB-996 (Sub-No. 2X)]

Reading Blue Mountain and Northern Railroad Company—Discontinuance of Service Exemption—in Berks County, PA

Reading Blue Mountain and Northern Railroad Company (RBMN) has filed a verified notice of exemption under 49 CFR 1152 Subpart F—Exempt Abandonments and Discontinuances of Service to discontinue service over a 8.6-mile portion of the Pennsy Branch between milepost 67.8, at or near Shackamaxon Street, in Leesport, Berks County, PA, to the end of the line at milepost 76.4, at or near Grand Street, in Hamburg, Berks County, PA. The line traverses United States Postal Service Zip Codes 19526, 19533, and 19555.

RBMN has certified that: (1) No traffic has moved over the line for at least 2 years; (2) there is no overhead traffic on the line; (3) no formal complaint filed by a user of rail service on the line (or by a state or local government entity acting on behalf of such user) regarding cessation of service over the line either is pending with the Board or with any U.S. District Court or has been decided in favor of complainant within the 2-year period; and (4) the requirements at 49 CFR 1105.12 (newspaper publication) and 49 CFR 1152.50(d)(1) (notice to governmental agencies) have been met.

As a condition to this exemption, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on September 25, 2009, unless stayed pending reconsideration.¹ Petitions to stay that do not involve environmental issues and formal expressions of intent to file an OFA for continued rail service under 49 CFR 1152.27(c)(2),² must be filed by September 8, 2009.³ Petitions to reopen must be filed by September 15, 2009, with the Surface Transportation Board, 395 E Street, SW., Washington, DC 20423-0001.

¹ The earliest this transaction may be consummated is September 25, 2009 (50 days after filing. 49 CFR 1152.50(d)). RBMN has indicated a consummation date of on or after September 24, 2009.

² Each OFA must be accompanied by the filing fee, which currently is set at $1,500. See 49 CFR 1002.2(f)(25).

³ Because this is a discontinuance proceeding and not an abandonment, trail use/rail banking and public use conditions are not appropriate. Likewise, no environmental or historical documentation is required here under 49 CFR 1105.6(c) and 1105.8(b), respectively.

A copy of any petition filed with the Board should be sent to RBMN's representative: Eric M. Hocky, Thorp Reed & Armstrong, LLP, One Commerce Square, 2005 Market Street, Suite 1000, Philadelphia, PA 19103.

If the verified notice contains false or misleading information, the exemption is void ab initio.

Board decisions and notices are available on our Web site at http://www.stb.dot.gov.

Decided: August 20, 2009.
By the Board, Rachel D. Campbell, Director, Office of Proceedings.
Kulunie L. Cannon,
Clearance Clerk.

[FR Doc. E9-20548 Filed 8-25-09; 8:45 am]

BILLING CODE 4915-01-P